MERIT SYSTEMS PROTECTION BOARD

5 CFR Part 1201

Practices and Procedures

AGENCY: Merit Systems Protection Board.

ACTION: Final rule.

SUMMARY: The Merit Systems Protection Board (MSPB or the Board) is amending its rules of practice and procedure in this part to reflect the relocation of its Denver Field Office. On November 12, 2001, the Board relocated its Denver Field Office from 12567 W. Cedar Drive, Suite 100, Lakewood, Colorado to 165 South Union Blvd., Suite 318, Lakewood, Colorado. Appendix II of this part is amended to show the new address. The facsimile number and the geographical areas served by the Denver Field Office are unchanged.

EFFECTIVE DATE: November 12, 2001.

FOR FURTHER INFORMATION CONTACT: Robert E. Taylor, Clerk of the Board, (202) 653-7200.

The Board is publishing this rule as a final rule pursuant to 5 U.S.C. 1204(h).

List of Subjects in 5 CFR Part 1201

Administrative practice and procedure, Civil rights, Government employees.

Accordingly, the Board amends 5 CFR part 1201 as follows:

PART 1201—PRACTICES AND PROCEDURES

1. The authority citation for part 1201 continues to read as follows:

Authority: 5 U.S.C. 1204 and 7701, unless otherwise noted.

2. Amend Appendix II to 5 CFR part 1201 in item 5a by removing “12567 West Cedar Drive, Suite 100, Lakewood, Colorado 80228 and adding, in its place “165 South Union Blvd., Suite 318, Lakewood, Colorado 80228”.

Dated: November 9, 2001.
Robert E. Taylor,
Clerk of the Board.

[FR Doc. 01-28690 Filed 11-16-01; 8:45 am]

BILLING CODE 7400-01-M